DEPARTMENT OF HOUSING AND URBAN DEVELOPMENT

[Docket No. FR-5601-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses—Air Force: Mr. Robert Moore, Air Force Real Property Agency, 143 Billy Mitchell Blvd., San Antonio, TX 78226, (210) 925-3047; Energy: Mr. Mark Price, Department of Energy, Office of Engineering & Construction Management, MA-50, 1000 Independence Ave, SW., Washington, DC 20585: (202) 586-5422; GSA: Mr. Flavio Peres, General Services Administration, Office of Real Property Utilization and Disposal, 1800 F Street NW., Room 7040 Washington, DC 20405, (202) 501-0084; Interior: Mr. Michael Wright, Acquisition & Property Management, Department of the Interior, 1801 Pennsylvania Ave, NW., 4th Floor, Washington, DC 20006: 202-254-5522; (These are not toll-free numbers).

Dated: August 16, 2012.
Ann Marie Oliva,
Deputy Assistant Secretary for Special Needs (Acting).

TITLE V, FEDERAL SURPLUS PROPERTY PROGRAM, FEDERAL REGISTER REPORT FOR 08/31/2012

Suitable/Available Properties

Building

California

Terrace Kitchen/Clubhouse

Yosemite Nat'l Park-Curry Village

Yosemite CA 95389

Landholding Agency: Interior

Property Number: 61201230003

Status: Unutilized

Comments: Off-site removal only; removal may be improbable due to location/condition of property; extensive deterioration; need repairs; 1,067 sf.; built into surrounding rocks; rock-fall zone; threat to personal safety; alternative method for transferee to access/remove; contact Interior for more details

Terrace Restroom

Yosemite Nat'l Park-Curry Village

Yosemite CA 95389

Landholding Agency: Interior

Property Number: 61201230004

Status: Unutilized

Comments: Off-site removal only; removal may be improbable due to location/condition of property; extensive deterioration; need repairs; 514 sf.; rock-fall zone; threat to personal safety; alternative method for transferee to access/remove; contact Interior for more details

Tressider House

Yosemite Nat'l Park-Curry Village

Yosemite CA 95389

Landholding Agency: Interior

Property Number: 61201230005

Status: Unutilized

Comments: Off-site removal only; removal may be improbable due to location/condition of property; extensive deterioration; need repairs; 1,018 sf.; rock-fall zone; threat to personal safety; alternative method for transferee to access/remove; contact Interior for more details

Rock Restroom

Yosemite Nat'l Park-Curry Village

Yosemite CA 95389

Landholding Agency: Interior

Property Number: 61201230006

Status: Unutilized

Comments: Off-site removal only; removal may be improbable due to location/condition of property; extensive deterioration; need repairs; 558 sf.; rock-fall zone; threat to personal safety; alternative method for transferee to access/remove; contact Interior for more details

Nob Hill Shower House

Yosemite Nat'l Park

Yosemite CA 95389

Landholding Agency: Interior

Property Number: 61201230007

Status: Unutilized

Comments: Off-site removal only; removal may be improbable due to location/condition of property; moderate conditions; need repairs; 2,673 sf.; rock-fall zone; threat to personal safety; alternative method for transferee to access/remove; contact Interior for more details

4 Buildings

Cabins w/Bath

Yosemite CA 95389

Landholding Agency: Interior

Property Number: 61201230008

Status: Unutilized

Directions: CVE Cabin101 A, CVL478, CVL479, CVL484

Comments: Off-site removal only; removal may be improbable due to location/condition of property; moderate conditions; need repairs; various sf.; rock-fall zone; threat to personal safety; alternative method for transferee to access/remove; contact Interior for more details

19 Buildings

Duplex Cabins

Yosemite CA 95389

Landholding Agency: Interior

Property Number: 61201230009

Status: Unutilized

Directions: 30A/B, 31A/B, 50A/B, 51A/B, 52A/B, 53A/B, 54A/B, 60A/B, 62A/B, 63A/B, 65A/B, 70A/B, 71A/B, 72A/B, 73A/B, 74A/B, 75A/B, 76A/B, 80A/B

Comments: Off-site removal only; removal may be improbable due to location/condition of property; moderate conditions; need repairs; 513 sf.; rock-fall zone; threat to personal safety; alternative method for transferee to access/remove; contact Interior for more details

33 Buildings

Duplex Cabins

Yosemite CA 95389

Landholding Agency: Interior

Property Number: 61201230010

Status: Unutilized

Directions: 214-218, 223-229, 236-247, 250-251, 254, 257-270, 273, 275-282, 286-299

Comments: Off-site removal only; removal may be improbable due to location/condition of property; moderate conditions; need repairs; 342 sf.; rock-fall zone; threat to personal safety; alternative method for transferee to access/remove; contact Interior for more details

11 Buildings

Yosemite Nat'l Park-Curry Village

Yosemite CA 95389

Landholding Agency: Interior

Property Number: 61201230011

Status: Unutilized

Directions: 220, 233, 235, 252, 253, 255, 256, 271, 272, 274, 230

Comments: Off-site removal only; removal may be improbable due to location/condition of property; moderate conditions; need repairs; 172 sf.; rock-fall zone; threat to personal safety; alternative method for transferee to access/remove; contact Interior for more details

Land

Michigan

FAA Outer Marker

Ash Rd. East of Clark Rd.

New Boston MI 48164

Landholding Agency: GSA

Property Number: 54201230009

Status: Excess

GSA Number: 1-U-MI-0840

Comments: .24 acres; located in a rural area; neighboring farm fields

FAA Outer Marker

N. Side of Avondale St., W. of Tobin Dr.

Inkster MI 48141

Landholding Agency: GSA

Property Number: 54201230010

Status: Excess

GSA Number: 1-U-MI-0841

Comments: .55 acres; located in a residential area; flat & glassy; public park located north of property

Unsuitable Properties

Building

Alabama

2 Buildings

Maxwell-Gunter AFB

Maxwell AFB AL 36112

Landholding Agency: Air Force

Property Number: 18201230004

Status: Underutilized

Directions: 853,926

Comments: Located on military installation; authorized military personnel only; public access denied & no alternative method to gain access w/out comprising nat'l security

Reasons: Secured Area

Tennessee

7 Buildings

Y-12 Nat'l Security Complex

Oak Ridge TN 37831

Landholding Agency: Energy

Property Number: 41201230003

Status: Excess

Directions: 9107, 9124, 9723-35, 9720-37, 9949-36, 9983-88, 9983-GX

Comments: Public access denied & no alternative method to gain access w/out comprising nat'l security

Reasons: Secured Area

[FR Doc. 2012-21228 Filed 8-30-12; 8:45 am]

BILLING CODE 4210-67-P